DEPARTMENT OF VETERANS AFFAIRS

Notice of Government-Owned Invention Available for Licensing

AGENCY: Department of Veterans Affairs.

ACTION: Notice.

SUMMARY: The invention listed below is owned by the U.S. Government as represented by the Department of Veterans Affairs, and is available for licensing in accordance with 35 U.S.C. 207 and 37 CFR part 404 to achieve expeditious commercialization of results of federally funded research and development. Foreign patents are filed on selected inventions to extend market coverage for U.S. companies and may also be available for licensing.

FOR FURTHER INFORMATION CONTACT: Technical and licensing information on the invention may be obtained by writing to: Patrick Hallinan, Department of Veterans Affairs, National Cemetery Administration, Office of Field Programs, 810 Vermont Avenue, NW., Washington, DC 20420. Telephone: 202-273-5226 (this is not a toll-free number). Any request for information should include the Number and Title for the relevant invention as indicated below. Issued patents may be obtained from the Commissioner of Patents, U.S. Patent and Trademark Office, Washington, DC 20231.

SUPPLEMENTARY INFORMATION: The invention available for licensing is: 60/458,966 “Mower Trimmer Combination”.

Approved: August 14, 2003.
Anthony J. Principi,
Secretary of Veterans Affairs.

[FR Doc. 03-21645 Filed 8-22-03; 8:45 am]

BILLING CODE 8320-01-P